DEPARTMENT OF STATE

[Public Notice: 11620]

Cultural Property Advisory Committee; Notice of Meeting

ACTION: Notice of meeting.

SUMMARY: The Department of State announces the location, dates, times, and agenda for the next meeting of the Cultural Property Advisory Committee.

DATES AND TIMES: The Cultural Property Advisory Committee (“the Committee”) will meet January 25-27, 2022, from 9:00 a.m. to 5:00 p.m. (EST) via videoconference. The Committee will hold an open session on January 25, 2022, at 11:00 a.m. (EST), which will last approximately one hour.

Participation: You may participate in the open session by videoconference. To participate, visit http://culturalheritage.state.gov for information on how to access the meeting. Please submit any requests for reasonable accommodation no later than January 18, 2022, by contacting the Bureau of Educational and Cultural Affairs at culprop@state.gov. It may not be possible to accommodate requests made after that date.

Comments: The Committee will review your written comments if they are received by January 18, 2022, at 11:59 p.m. (EST). You are not required to submit written comments in order to make an oral comment in the open session. You may submit written comments in two ways, depending on whether they contain privileged or confidential information:

Electronic Comments: For ordinary comments, please use http://www.regulations.gov, enter the docket [DOS-2021-0037], and follow the prompts to submit your comments.

Email Comments: For comments that contain privileged or confidential information (within the meaning of 19 U.S.C. 2605(i)(1)), please email submissions to culprop@state.gov. Include “Cyprus”, “Guatemala”, and/or “Mali” in the subject line, as appropriate.

FOR FURTHER INFORMATION CONTACT: For general questions concerning the meeting, contact Allison Davis, Bureau of Educational and Cultural Affairs—Cultural Heritage Center, by phone (202-702-1166) or email (culprop@state.gov).

SUPPLEMENTARY INFORMATION: In accordance with the Convention on Cultural Property Implementation Act (19 U.S.C. 2601 et seq.) (“the Act”), the Assistant Secretary of State for Educational and Cultural Affairs calls a meeting of the Cultural Property Advisory Committee (“the Committee”) (19 U.S.C. 2605(e)(2)). The Act describes the Committee's responsibilities. A portion of this meeting will be closed to the public pursuant to 5 U.S.C. 552b(c)(9)(B) and 19 U.S.C. 2605(h).

Meeting Agenda: The Committee will continue to review the proposed extension and amendment of the cultural property agreement with the Government of the Republic of Cyprus, including a request to include additional categories of archaeological and ethnological material. The Committee will also review the proposed extension of the cultural property agreement with the Government of the Republic of Guatemala and the proposed extension and amendment of the cultural property agreement with the Government of the Republic of Mali, including a request to include additional categories of ethnological material. In addition, the Committee will undertake a continuing review of the effectiveness of other cultural property agreements and emergency actions currently in force.

Open Session Participation: The Committee will hold an open session of the meeting to receive oral public comments on the proposed extension and amendment of the agreement with Cyprus, the proposed extension of the agreement with Guatemala, and the proposed extension and amendment of the agreement with Mali on Tuesday, January 25, 2021, from 11:00 a.m. to approximately 12:00 p.m. (EST). The Department will provide specific instructions on how to participate or observe the open session at http://culturalheritage.state.gov.

You do not need to register to observe the open session. You do not have to submit written comments to make an oral comment in the open session. If you do wish to speak, however, you must request to be scheduled by January 18, 2022, via email (culprop@state.gov). Please include your name and any organizational affiliation in this request. The open session will start with a brief presentation by the Committee, after which you should be prepared to answer questions on any written statements you may have submitted. Finally, you may be invited to provide additional oral comments for a maximum of five (5) minutes per participant, time permitting. Due to time constraints, it may not be possible to accommodate all who wish to speak.

Written Comments: If you do not wish to participate in the open session but still wish to make your views known, you may submit written comments for the Committee's consideration. Submit non-privileged and non-confidential information (within the meaning of 19 U.S.C. 2605(i)(1)) regarding the proposed extension and amendment of the agreement with Cyprus, the proposed extension of the agreement with Guatemala, and/or the proposed extension and amendment of the agreement with Mali using the regulations.gov website (listed in the “COMMENTS” section above) no later than January 18, 2022, at 11:59 p.m. (EST). For comments that contain privileged or confidential information (within the meaning of 19 U.S.C. 2605(i)(1)), please send comments to culprop@state.gov. Include “Cyprus”, “Guatemala”, and/or “Mali” in the subject line. In all cases, your written comments should relate specifically to the determinations specified in the Act at 19 U.S.C. 2602(a)(1). Written comments submitted via regulations.gov are not private and are posted at http://www.regulations.gov. Because written comments cannot be edited to remove any personally identifying or contact information, we caution against including any such information in an electronic submission without appropriate permission to disclose that information (including trade secrets and commercial or financial information that are privileged or confidential within the meaning of 19 U.S.C. 2605(i)(1)). We request that any party soliciting or aggregating written comments from other persons inform those persons that the Department will not edit their comments to remove any identifying or contact information and that they therefore should not include any such information in their comments that they do not want publicly disclosed.

Allison Davis,
Executive Director, Cultural Property Advisory Committee, Bureau of Educational and Cultural Affairs, Department of State.

[FR Doc. 2022-00015 Filed 1-5-22; 8:45 am]

BILLING CODE 4710-05-P